DEPARTMENT OF HEALTH AND HUMAN SERVICES

Administration for Community Living

Agency Information Collection Activities; Proposed Collection; Public Comment Request; Revision of a Currently Approved Information Collection (ICR-REV); Centers for Independent Living Annual Performance Report (CILPPR)

AGENCY: Independent Living Administration, Administration for Community Living, HHS.

ACTION: Notice.

SUMMARY: The Administration for Community Living (ACL) is announcing an opportunity for the public to comment on ACL's intention to collect information necessary to determining grantee compliance with Title VII of the Rehabilitation Act of 1973, As Amended by the Workforce Innovation and Opportunity Act of 2014. Under the Paperwork Reduction Act of 1995 (PRA), Federal agencies are required to publish a notice in the Federal Register concerning each proposed collection of information, including each proposed extension of an existing collection of information, and to allow 60 days for public comment in response to the proposed action. This notice solicits comments on a proposed revision to an existing data collection related to the Centers for Independent Living Program Performance Report (CIL PPR, formerly the Section 704 Part II Report).

DATES: Submit written or electronic comments on the collection of information by April 7.

ADDRESSES: Submit electronic comments on the collection of information to: veronica.hogan@acl.hhs.gov. Submit written comments on the collection of information by mail to Veronica Hogan, Administration for Community Living, 330 C Street, Room 1133D, Washington, DC 20201.

FOR FURTHER INFORMATION CONTACT: Veronica Hogan at (202) 795-7365 or veronica.hogan@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension or update of an existing collection of information, before submitting the collection to OMB for approval. The proposed data collection represents a revision of a currently approved collection (ICR-Rev).

In order to comply with the above requirement, the Independent Living Administration (ILA) is requesting approval of a revision of a previously approved collection, the Centers for Independent Living Program Performance Report (CILPPR), formerly known as the 704 Part II report (0985-0043). Sections 704(m)(4)(D), 706(d), 721(b)(3), and 725(c) of the Rehabilitation Act of 1973 (Rehabilitation Act), as amended by the Workforce Innovation and Opportunity Act (WIOA, Pub. L. 113-128) and the corresponding regulations at 45 CFR part 1329, require centers for independent living (CILs) to submit annual performance reports to the Administrator of the Administration for Community Living (ACL) in order to receive continuation funding under the CIL (IL Part C) program.

The CIL PPR is submitted annually by all CILs receiving IL Part C funds. The CIL PPR is used by ACL to assess grantees' compliance with title VII of the Act, with section 1329 of the Code of Federal Regulations and with applicable provisions of the HHS regulations at 45 CFR part 75. The CIL PPR serves as the primary basis for ACL's monitoring activities in fulfillment of its responsibilities under sections 706 and 722 of the Act. The CIL PPR also enables ACL to collect qualitative and quantitative data to track performance outcomes and efficiency measures of the centers for independent living (CILs) programs with respect to the annual and long-term performance targets established in compliance with GPRA. The CIL PPR is also used by ACL to design CIL training and technical assistance programs authorized by section 721 of the Act.

New Requirements

The Workforce Innovation and Opportunity Act (WIOA), enacted on July 22, 2014, added a new core service to the list of “independent living core services” that ACL funded Centers for Independent Living (CILs) are required to provide. Prior to WIOA, CILs were required to provide four core independent living services: (1) Information and referral services; (2) independent living skills training; (3) peer counseling, including cross-disability peer counseling; (4) and individual and systems advocacy. WIOA added a fifth core service for “transition services.” This new core service has three components. It requires CILs to:

• Facilitate the transition of individuals with significant disabilities from nursing homes and other institutions to home- and community-based residences, with the requisite supports and services;

• Provide assistance to individuals with significant disabilities who are at risk of entering institutions so that the individuals remain in the community; and

• Facilitate the transition of youth with significant disabilities, who were eligible for individualized education programs (IEPs) under Section 614(d) of the Individuals with Disabilities Education Act, and who have completed their secondary education or otherwise left school to post-secondary life.

The new core services promote full access to community living, which is in keeping with the Americans with Disabilities Act, the Supreme Court ruling in Olmstead v. L.C., and subsequent legislation and regulations. These critical services also align with the core of ACL's mission. Modifications to the performance measures were developed this year in response to these changes, which will require additional data to be submitted so ACL can report on activities related to the new requirement. The proposed reporting form may be found on the ACL Web site at: https://acl.gov/Programs/AoD/ILA/Index.aspx#cil.

The estimated hour burden per respondent for the CIL PPR (IL Part C) in 2017 will change from the 35 hours estimated in FY 2014 to 36.5 hours, an additional hour and a half due to the addition of the fifth core service area. The number of hours is multiplied by 356 CILs, resulting in a total estimated hour aggregate burden of 12,994 hours.

Number of centers | Frequency of responses per year | Hours per response | Total burden hours
356 | 1 | 493 | 12,994

Dated: February 16, 2017.
Daniel P. Berger,
Acting Administrator and Assistant Secretary for Aging.

[FR Doc. 2017-03486 Filed 2-22-17; 8:45 am]

BILLING CODE 4154-01-P